DEPARTMENT OF COMMERCE

National Institute of Standards and Technology

Smart Grid Interoperability Panel Governing Board, request for nominations; and request for comments on draft Smart Grid Interoperability Panel Charter and Bylaws

AGENCY: National Institute of Standards and Technology (NIST), Department of Commerce.

ACTION: Notice.

SUMMARY: The National Institute of Standards and Technology, on behalf of its contractor, EnerNex Corp., seeks nominations for members to serve on an initial Smart Grid Interoperability Panel Governing Board (SGIPGB), which will consist of approximately 27 voting members. EnerNex Corp. was competitively selected to help NIST establish and administer the Smart Grid Interoperability Panel (SGIP) and its Governing Board, which will identify, prioritize and address new and emerging requirements for Smart Grid interoperability and security.

Approximately 22 members of the SGIP Governing Board will be elected by stakeholder categories as listed in the draft SGIP Charter and Bylaws, which are posted on the Internet at: http://collaborate.nist.gov/twiki-sggrid/bin/view/SmartGrid/SGIP. Three SGIPGB members will be at-large members, and two will be the chairs of two SGIP Committees. The SGIPGB will also have several ex officio, non-voting members who will not be elected. All seats are open, and candidates are sought from each stakeholder category, as well as for the at-large positions.

NIST and EnerNex Corp. also request comments on the SGIP draft Charter and Bylaws, which are posted on the Internet at the Web site given above. Comments on this document can be made directly to the document's online comment section.

DATES: Nominations for the SGIPGB must be received on or before November 27, 2009. Nominations received by November 6, 2009, will be considered to be placed on the ballot for the initial SGIP Governing Board. Nominations received after that date will be considered for any positions for which nominations were not received by November 6, 2009, and for vacancies that may occur prior to the next call for candidates.

Comments on the SGIP Charter and Bylaws received before Nov. 6, 2009 will be incorporated into the initial documents. Comments received after that date will be considered for later amendments.

ADDRESSES: Nominations may be sent by e-mail, fax, or by mail to the SGIP Administrator: e-mail, sgipgb.administrator@enernex.com; fax, (865) 218-8999; mail, SGIPGB Administrator, EnerNex Corporation, 620 Mabry Hood Road, Suite 300, Knoxville, TN 37932.

The draft SGIP Charter and Bylaws are posted on the Internet at: http://collaborate.nist.gov/twiki-sggrid/bin/view/SmartGrid/SGIP. Comments on these documents can be made directly to the document's online comment section.

FOR FURTHER INFORMATION CONTACT: George Arnold, 100 Bureau Drive, Stop 8100, National Institute of Standards and Technology, Gaithersburg, MD 20899-8100, telephone (301) 975-5627.

SUPPLEMENTARY INFORMATION: While compiling the elements needed for a complete candidate submission, NIST encourages potential candidates to initially indicate their intent to submit as soon as possible through a simple e-mail.

A complete submission should include:

• Candidate name and contact information.

• Proposer name and contact information (if not the candidate).

• Relevant information that would help determine how the proposed candidate meets the criteria.

The SGIP Administrator will verify that the information is complete and contact candidates to confirm that their submission has been received. For submissions received on or before November 6, 2009, a slate of candidates by stakeholder category and at-large positions, who have been determined to meet the criteria, will be posted by November 13, 2009. For all submissions, the proposed candidates will be notified whether they meet the criteria within a reasonable time.

Qualified candidates are sought with experience in one or more of the following Stakeholder Category areas:

1. Appliance and consumer electronics providers.

2. Consumers—Commercial and Industrial (C&I).

3. Consumers—Residential.

4. Electricity and financial market traders (includes aggregators).

5. Electric utility companies—Investor Owned Utilities (IOU).

6. Electric utility companies—Municipal (MUNI).

7. Electric utility companies—Rural Electric Association (REA).

8. Electric transportation industry stakeholders.

9. Information and communication technologies (ICT) infrastructure and service providers.

10. Independent power producers.

11. Information technology (IT) application developers and integrators.

12. Power equipment manufacturers and vendors.

13. Professional societies, users groups, and industry consortia.

14. R&D organizations and academia.

15. Relevant federal government agencies.

16. Renewable power producers.

17. Retail service providers.

18. Standard and specification development organizations (SDOs).

19. State and local regulators.

20. Testing and certification vendors.

21. Transmission operators.

22. Venture capital.

Qualified candidates are also sought for three at-large positions.

Criteria to be considered in selecting nominees for the SGIPGB include:

• Visionary Capability: Candidates will be capable of understanding and contributing to the multi-disciplinary aspects of the Smart Grid and the specific goals of the SGIP mission.

• Team Effectiveness: Candidates will be able to work effectively within the scope of the Governing Board and within its organizational environment as a team.

• Credibility and Outreach: Candidates will be able to relay and leverage SGIPGB messages through the stakeholder community, contributing to underlying consensus building goals of the SGIPGB.

• Recognition: Candidates will be recognized experts in their technical fields of endeavor.

• Commitment: Candidates will be committed to contribute time and effort to SGIPGB activities.

EnerNex Corp. currently serves as the SGIP Administrator. A Candidate Evaluation Team established by the SGIP Administrator will consider proposed candidates against the criteria listed above to determine their eligibility. The SGIP Administrator will present a slate of eligible candidates for voting within the Stakeholder Categories and for the at-large positions. Organizations that have registered as SGIP members will then vote to select SGIPGB members between 5 p.m. Eastern, Monday, November 16, and 8 p.m. Eastern, Wednesday, November 18. To become a member of the SGIP an organization must register using the instructions at this Web site: http://collaborate.nist.gov/twiki-sggrid/bin/view/SmartGrid/SGIP.

Active participation in the SGIPGB offers a unique opportunity to accelerate and shape the standards-based information, telecommunications and control architecture for the future electric system from generation to end-use. Governing Board members are expected to invest significant effort in guiding the activities of the SGIP, advancing Priority Action Plans (PAPs) and lists of standards, guiding the development of a conformity assessment framework, and guiding the development of an architectural direction and reference framework through maintenance and evolution of the NIST conceptual architectural model. This means that investigation and presentation of concepts and results are natural components of this work. A serious commitment to attend meetings and review relevant material is required. Members will be expected to contribute between 5 percent and 15 percent of their time to SGIPGB activities (including attendance at a minimum of two face-to-face meetings per year, with a similar minimum number of Web conferences).

Background materials on the SGIPGB and related interoperability activities include:

• SGIPB Charter and Bylaws: http://collaborate.nist.gov/twiki-sggrid/pub/SmartGrid/SGIP/SGIP_and_GB_Charter.doc.

• NIST Framework and Roadmap for Smart Grid Interoperability Standards, Release 1.0 (Draft): http://www.nist.gov/public_affairs/releases/smartgrid_interoperability.pdf.

• GWAC Interoperability Context-Setting Framework (v 1.1) Document: http://www.gridwiseac.org/pdfs/interopframework_v1_1.pdf.

• GWAC Interoperability Path Forward White Paper: http://www.gridwiseac.org/pdfs/interoperability_path_whitepaper_v1_0.pdf.

• GWAC Interoperability Constitution White Paper: http://www.gridwiseac.org/pdfs/constitution_whitepaper_v1_1.pdf.

All of the documents listed above are available through the NIST Smart Grid Web site at: http://www.nist.gov/smartgrid/ or the NIST Smart Grid Twiki Collaboration Site at: http://collaborate.nist.gov/twiki-sggrid/bin/view/SmartGrid/WebHome.

Dated: October 22, 2009.
Patrick Gallagher,
Deputy Director.

[FR Doc. E9-25970 Filed 10-27-09; 8:45 am]

BILLING CODE 3510-13-P